DEPARTMENT OF STATE

[Public Notice: 7648]

30-Day Notice of Proposed Information Collections: DDTC Information Collections.

ACTION: Notice of request for public comment and submission to OMB of proposed collections of information.

SUMMARY: The Department of State has submitted the following information collection requests to the Office of Management and Budget (OMB) for approval in accordance with the Paperwork Reduction Act of 1995.

• Title of Information Collection: Application/License for Permanent Export of Unclassified Defense Articles and Related Unclassified Technical Data

• OMB Control Number: 1405-0003

• Type of Request: Extension of Currently Approved Collection

• Originating Office: Bureau of Political-Military Affairs, Directorate of Defense Trade Controls, PM/DDTC

• Form Number: DSP-5

• Respondents: Business and Nonprofit Organizations

• Estimated Number of Respondents: 2,500

• Estimated Number of Responses: 56,000

• Average Hours per Response: 1 hour

• Total Estimated Burden: 56,000 hours

• Frequency: On Occasion

• Obligation to Respond: Required to Obtain Benefits

• Title of Information Collection: Application/License for Temporary Import of Unclassified Defense Articles

• OMB Control Number: 1405-0013

• Type of Request: Extension of Currently Approved Collection

• Originating Office: Bureau of Political-Military Affairs, Directorate of Defense Trade Controls, PM/DDTC

• Form Number: DSP-61

• Respondents: Business and Nonprofit Organizations

• Estimated Number of Respondents: 240

• Estimated Number of Responses: 1,500

• Average Hours per Response: 30 minutes

• Total Estimated Burden: 750 hours

• Frequency: On Occasion

• Obligation to Respond: Required to Obtain Benefits

• Title of Information Collection: Application/License for Temporary Export of Unclassified Defense Articles

• OMB Control Number: 1405-0023

• Type of Request: Extension of Currently Approved Collection

• Originating Office: Bureau of Political-Military Affairs, Directorate of Defense Trade Controls, PM/DDTC

• Form Number: DSP-73

• Respondents: Business and Nonprofit Organizations

• Estimated Number of Respondents: 510

• Estimated Number of Responses: 5,000

• Average Hours per Response: 1 hour

• Total Estimated Burden: 5,000 hours

• Frequency: On Occasion

• Obligation to Respond: Required to Obtain Benefits

• Title of Information Collection: Nontransfer and Use Certificate

• OMB Control Number: 1405-0021

• Type of Request: Extension of Currently Approved Collection

• Originating Office: Bureau of Political-Military Affairs, Directorate of Defense Trade Controls, PM/DDTC

• Form Number: DSP-83

• Respondents: Business and Nonprofit Organizations

• Estimated Number of Respondents: 2,600

• Estimated Number of Responses: 9,400

• Average Hours per Response: 1 hour

• Total Estimated Burden: 9,400 hours

• Frequency: On Occasion

• Obligation to Respond: Required to Obtain Benefits

• Title of Information Collection: Application/License for Permanent/Temporary Export or Temporary Import of Classified Defense Articles and Classified Technical Data

• OMB Control Number: 1405-0022

• Type of Request: Extension of Currently Approved Collection

• Originating Office: Bureau of Political-Military Affairs, Directorate of Defense Trade Controls, PM/DDTC

• Form Number: DSP-85

• Respondents: Business and Nonprofit Organizations

• Estimated Number of Respondents: 35

• Estimated Number of Responses: 300

• Average Hours per Response: 30 minutes

• Total Estimated Burden: 150 hours

• Frequency: On Occasion

• Obligation to Respond: Required to Obtain Benefits

• Title of Information Collection: Authority to Export Defense Articles and Services Sold Under the Foreign Military Sales (FMS) Program

• OMB Control Number: 1405-0051

• Type of Request: Extension of Currently Approved Collection

• Originating Office: Bureau of Political-Military Affairs, Directorate of Defense Trade Controls, PM/DDTC

• Form Number: DSP-94

• Respondents: Business and Nonprofit Organizations

• Estimated Number of Respondents: 250

• Estimated Number of Responses: 2,500

• Average Hours per Response: 30 minutes

• Total Estimated Burden: 1,250 hours

• Frequency: On Occasion

• Obligation to Respond: Required to Obtain Benefits

• Title of Information Collection: Application for Amendment to License for Export or Import of Classified or Unclassified Defense Articles and Related Technical Data

• OMB Control Number: 1405-0092

• Type of Request: Extension of Currently Approved Collection

• Originating Office: Bureau of Political-Military Affairs, Directorate of Defense Trade Controls, PM/DDTC

• Form Numbers: DSP-6, DSP-62, DSP-74, DSP-119

• Respondents: Business and Nonprofit Organizations

• Estimated Number of Respondents: 700

• Estimated Number of Responses: 7,500

• Average Hours per Response: 30 minutes

• Total Estimated Burden: 3,750 hours

• Frequency: On Occasion

• Obligation to Respond: Required to Obtain Benefits

• Title of Information Collection: Request for Approval of Manufacturing License Agreements, Technical Assistance Agreements, and Other Agreements

• OMB Control Number: 1405-0093

• Type of Request: Extension of Currently Approved Collection

• Originating Office: Bureau of Political-Military Affairs, Directorate of Defense Trade Controls, PM/DDTC

• Form Number: None

• Respondents: Business and Nonprofit Organizations

• Estimated Number of Respondents: 650

• Estimated Number of Responses: 8,200

• Average Hours per Response: 2 hours

• Total Estimated Burden: 16,400 hours

• Frequency: On Occasion

• Obligation to Respond: Required to Obtain Benefits

• Title of Information Collection: Statement of Political Contributions, Fees, or Commissions in Connection with the Sale of Defense Articles or Services

• OMB Control Number: 1405-0025

• Type of Request: Extension of Currently Approved Collection

• Originating Office: Bureau of Political-Military Affairs, Directorate of Defense Trade Controls, PM/DDTC

• Form Number: None

• Respondents: Business and Nonprofit Organizations

• Estimated Number of Respondents: 800

• Estimated Number of Responses: 2,000

• Average Hours per Response: 1 hour

• Total Estimated Burden: 2,000 hours

• Frequency: On Occasion

• Obligation to Respond: Mandatory

• Title of Information Collection: Maintenance of Records by Registrants

• OMB Control Number: 1405-0111

• Type of Request: Extension of Currently Approved Collection

• Originating Office: Bureau of Political-Military Affairs, Directorate of Defense Trade Controls, PM/DDTC

• Form Number: None

• Respondents: Business and Nonprofit Organizations

• Estimated Number of Respondents: 9,600

• Estimated Number of Responses: 9,600

• Average Hours per Response: 20 hours

• Total Estimated Burden: 192,000 hours

• Frequency: On Occasion

• Obligation to Respond: Mandatory

DATES: Submit comments to the Office of Management and Budget (OMB) until 30 days from October 18, 2011.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: Direct requests for additional information regarding the collections listed in this notice, including requests for copies of the information collection and supporting documents, to Nicholas Memos, PM/DDTC, SA-1, 12th Floor, Directorate of Defense Trade Controls, Bureau of Political-Military Affairs, U.S. Department of State, Washington, DC, 20522-0112, who may be reached via phone at (202) 663-2829, or via e-mail at memosni@state.gov.

SUPPLEMENTARY INFORMATION: We are soliciting public comments to permit the Department to:

• Evaluate whether the proposed collection of information is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collections: The export, temporary import, and temporary export of defense articles, defense services and related technical data are licensed by the Directorate of Defense Trade Controls in accordance with the International Traffic in Arms Regulations (22 CFR parts 120-130) and Section 38 of the Arms Export Control Act. Persons desiring to engage in the export or temporary import of defense articles, defense services, and related technical data must submit an application or written request to conduct the transaction to the Department to obtain a decision whether it is in the interests of U.S. foreign policy and national security to approve the transaction. Additionally, registered manufacturers and exporter must maintain records of defense trade activities for five years.

Methodology: These forms/information collections may be sent to the Directorate of Defense Trade Controls via the following methods: electronically, mail, or personal delivery.

Dated: September 29, 2011.
Robert S. Kovac,
Managing Director of Defense Trade Controls, Bureau of Political-Military Affairs, U.S. Department of State.

[FR Doc. 2011-26943 Filed 10-17-11; 8:45 am]

BILLING CODE 4710-25-P